DEPARTMENT OF EDUCATION

34 CFR Chapter VI

[ED-2024-OPE-0069]

Postsecondary Student Success Grant

AGENCY: Office of Postsecondary Education, Department of Education.

ACTION: Proposed priorities, requirements, and definitions.

SUMMARY: The Department of Education (Department) proposes priorities, requirements, and definitions for use in the Postsecondary Student Success Grant (PSSG) program, Assistance Listing Number 84.116M. The Department may use one or more of these priorities, requirements, and definitions for competitions in fiscal year (FY) 2024 and later years. We intend for these priorities, requirements, and definitions to support projects that equitably improve postsecondary student outcomes, including retention, upward transfer, and completions of value, by leveraging data and implementing, scaling, and rigorously evaluating evidence-based activities to support data-driven decisions and actions that lead to credentials that support economic success and further education.

DATES: We must receive your comments on or before July 8, 2024.

ADDRESSES: Comments must be submitted via the Federal eRulemaking Portal at www.regulations.gov. However, if you require an accommodation or cannot otherwise submit your comments via www.regulations.gov, please contact the program contact person listed under FOR FURTHER INFORMATION CONTACT. The Department will not accept comments submitted by fax or by email, or comments submitted after the comment period closes. To ensure the Department does not receive duplicate copies, please submit your comments only once. In addition, please include the Docket ID at the top of your comments.

Federal eRulemaking Portal: Go to www.regulations.gov to submit your comments electronically. Information on using Regulations.gov, including instructions for accessing agency documents, submitting comments, and viewing the docket, is available on the site under “FAQ.”

Note: The Department's policy is generally to make comments received from members of the public available for public viewing in their entirety on the Federal eRulemaking Portal at www.regulations.gov. Therefore, commenters should be careful to include in their comments only information that they wish to make publicly available.

FOR FURTHER INFORMATION CONTACT: Nemeka Mason-Clercin, U.S. Department of Education, 400 Maryland Avenue SW, 5th Floor, Washington, DC 20202-4260. Telephone: (202) 987-1340. Nalini Lamba-Nieves, U.S. Department of Education, 400 Maryland Avenue SW, Room 5C127, Washington, DC 20202-4260. Telephone: (202) 453-7953. Email: PSSG@ed.gov.

If you are deaf, hard of hearing, or have a speech disability and wish to access telecommunications relay services, please dial 7-1-1.

SUPPLEMENTARY INFORMATION:

Invitation to Comment: We invite you to submit comments regarding the proposed priorities, requirements, and definitions. To ensure that your comments have maximum effect in developing the final priorities, requirements, and definitions, we urge you to clearly identify the specific section of the proposed priorities, requirements, and definitions that each comment addresses.

We invite you to assist us in complying with the specific requirements of Executive Orders 12866, 13563, and 14094 and their overall requirement of reducing regulatory burden that might result from these proposed priorities, requirements, and definitions. Please let us know of any further ways we could reduce potential costs or increase potential benefits while preserving the effective and efficient administration of the program.

During and after the comment period, you may inspect public comments about the proposed priorities, requirements, and definitions by accessing Regulations.gov. To inspect comments in person, please contact the person listed under FOR FURTHER INFORMATION CONTACT.

Assistance to Individuals with Disabilities in Reviewing the Rulemaking Record: On request we will provide an appropriate accommodation or auxiliary aid to an individual with a disability who needs assistance to review the comments or other documents in the public rulemaking record for these proposed priorities, requirements, and definitions. If you want to schedule an appointment for this type of accommodation or auxiliary aid, please contact the person listed under FOR FURTHER INFORMATION CONTACT.

Purpose of Program: The purpose of the PSSG program is to equitably improve postsecondary student outcomes, including retention, upward transfer, and completions of value, by leveraging data and implementing, scaling, and rigorously evaluating evidence-based activities to support data-driven decisions and actions that lead to credentials that support economic success and further education.

Program Authority: 20 U.S.C. 1138-1138d.

Proposed Priorities

We propose five priorities. We may use one or more of these priorities in any year in which this program is in effect.

Background

In today's economy, 67 percent of U.S. jobs require a postsecondary credential, and by 2031, this percentage is projected to grow to 71 percent.¹ Data show that as educational attainment increases, median earnings steadily increase.² One in three first-time students at two-year colleges, and two in three first-time students at four-year colleges, graduate from the first institution they attend within three and six years respectively.³ Students from low-income backgrounds, first-generation students, students of color, adult students, students with disabilities, veterans, and other students who have been historically underserved in postsecondary education often fare worse.⁴ It is critical for institutions of higher education (IHEs) to provide student support systems to improve retention, progression, and completion rates for all students, while decreasing economic and social equity gaps for students of color and students from low-income backgrounds.

¹ Carnevale, A.P., Smith, N., Van Der Werf, M., & Quinn, M.C. (2023). After Everything: Projections of jobs, education, and training requirements through 2031. Georgetown University—Georgetown Public Policy Institute Center on Education and the Workforce.

² U.S. Bureau of Labor Statistics (2023, September 6). Education pays—Earnings and unemployment rates by educational attainment, 2023.

³ U.S. Department of Education, National Center for Education Statistics (2023). Retrieved from: https://nces.ed.gov/programs/digest/d23/tables/dt23_326.10.asp and U.S. Department of Education, National Center for Education Statistics (2024). Retrieved from: https://nces.ed.gov/programs/digest/d23/tables/dt23_326.20.asp.

⁴ U.S. Department of Education, National Center for Education Statistics (2023). Retrieved from: https://nces.ed.gov/pubs2020/2020237.pdf.

Students of color and students from low-income backgrounds still face barriers to successfully enrolling in and completing college.5 6 Between 2018 and 2022, there was a seven percent decrease in undergraduate enrollment overall, but larger decreases for Black (8 percent), American Indian/Alaska Native (10 percent) students, and Pacific Islander students (13 percent). From 2018 to 2022, there also has been a decrease in enrollment for Pell Grant recipients (13 percent).⁷ In addition, while graduation rates (within 6 years after entry) have increased in four-year institutions overall (5.2 percentage points) since 2015 (2009 cohort), double-digit graduation rate gaps between some underrepresented students of color and White students remain (e.g., 22 percentage point gap for Black students), and there is a 17 percentage point gap in completers (within 8 years after entry) between Pell and non-Pell full-time, first-time students in public four-year institutions.⁸ The same issues are occurring in two-year institutions, with a modest overall graduation rate (within 3 years after entry) increase (3.1 percentage points) since 2012 (2009 cohort), but declining rates for Black and Hispanic students, which has increased the graduation gap between White students and some underrepresented students of color.⁹

⁵ Thiem, K.C., & Dasgupta, N. (2022). From precollege to career: Barriers facing historically marginalized students and evidence‐based solutions. Social Issues and Policy Review, 16(1), 212-251.

⁶ Rabourn, K.E., BrckaLorenz, A., & Shoup, R. (2018). Reimagining student engagement: How nontraditional adult learners engage in traditional postsecondary environments. The Journal of Continuing Higher Education, 66(1), 22-33.

⁷ U.S. Department of Education, National Center for Education Statistics (2023). Retrieved from: https://nces.ed.gov/programs/digest/d23/tables/dt23_306.10.asp and College Board. (2023, October). Trends in Higher Education Series: Trends in Student Aid 2023.

⁸ U.S. Department of Education, National Center for Education Statistics (2023). Retrieved from: https://nces.ed.gov/programs/digest/d23/tables/dt23_326.10.asp and U.S. Department of Education, National Center for Education Statistics (2023). Retrieved from nces.ed.gov/ipeds/Search?query=&query2=&resultType=all&page=1&sortBy=date_desc&surveyComponents=Outcome%20Measures%20(OM)&collectionYears=2021-22&sources=Tables%20Library&overlayTableId=36029.

⁹ U.S. Department of Education, National Center for Education Statistics (2024). Retrieved from: https://nces.ed.gov/programs/digest/d23/tables/dt23_326.20.asp.

Furthermore, as more underserved students attend college, additional and different resources are often required to support them in successfully completing their credentials. Today, 25 percent of postsecondary students are age 25 or older,¹⁰ about 70 percent of students work while enrolled,¹¹ and 22 percent of students are parents.¹² At public, 2-year degree-granting institutions, 31 percent of students enrolled are age 25 or older,¹³ and 42 percent of all student parents attend community colleges.¹⁴

¹⁰ National Center for Education Statistics (2022). Retrieved from: https://nces.ed.gov/programs/digest/d22/tables/dt22_303.50.asp?current=yes.

¹¹ Carnevale, A.P., Smith, N., Melton, M., & Price, E.W. (2015). Learning while earning: The new normal. Georgetown University—Georgetown Public Policy Institute Center on Education and the Workforce.

¹² Cruse, L.R., Holtzman, T., Gault, B., Croom, D., & Polk, P. (2019). Parents in College: By the Numbers. Institute for Women's Policy Research.

¹³ National Center for Education Statistics (2022). Retrieved from: https://nces.ed.gov/programs/digest/d22/tables/dt22_303.50.asp?current=yes.

¹⁴ Cruse, L.R., Holtzman, T., Gault, B., Croom, D., & Polk, P. (2019). Parents in College: By the Numbers. Institute for Women's Policy Research.

Research has found that IHEs can employ a multifaceted and integrated approach and mitigate the barriers that hinder students in their educational trajectories, by addressing academic, financial, and other challenges.¹⁵ Moreover, IHEs that have improved completion rates, including for underserved students, use timely, disaggregated, actionable data to identify institutional barriers to student success, implement interventions, and evaluate impact on an ongoing basis.¹⁶ Institutional leadership is critical to ensure that the student experience is intentionally designed to increase student retention, progression, and completion rates.¹⁷

¹⁵ Scrivener, S., Weiss, M.J., Ratledge, A., Rudd, T., Sommo, C., & Fresques, H. (2015). Doubling Graduation Rates: Three-Year Effects of CUNY's Accelerated Study in Associate Programs (ASAP) for Developmental Education Students. New York: MDRC.

¹⁶ Phillips, B.C., & Horowitz, J.E. (2013). Maximizing data use: A focus on the completion agenda. In Special Issue: The College Completion Agenda-Practical Approaches for Reaching the Big Goal. New Directions for Community Colleges, 2013(164), 17-25.

¹⁷ McNair, T.B., Albertine, S., McDonald, N., Major Jr., T., & Cooper, M.A. (2022). Becoming a student-ready college: A new culture of leadership for student success (2nd ed.). John Wiley & Sons.

The first three proposed priorities in this document would establish a multitier structure to enable the Department to link the amount of funding an applicant may receive to the quality of evidence supporting the efficacy of a proposed project and to the proposed project's plan to scale the evidence-based strategy. This approach would enable the Department to meet the congressional intent outlined in the House Report 117-403 and the explanatory statement accompanying Division H of the Consolidated Appropriations Act, 2023 (117 Pub. L. 328) to execute the grant program as a tiered-evidence competition in the same structure as the Education Innovation and Research (EIR) program. Congress continued this directive to the Department through the explanatory statement accompanying Division D of the Further Consolidated Appropriations Act, 2024 (118 Pub. L. 47). The first proposed priority would give the Department the flexibility to select either Demonstrates a Rationale or Promising Evidence as the applicable evidence standard for Early Phase grants in a particular competition. The second and third proposed priorities would establish the applicable evidence and scale requirements for Mid Phase and Expansion Phase grants. The Department is particularly interested in receiving comments on our proposed scale requirements under these two priorities, which have been determined by taking into consideration prior grantee awards.

The fourth proposed priority would establish a priority for applicants who use data for continuous improvement in their programs. The fifth proposed priority would incentivize strategies that focus on credentials that lead to career outcomes that support graduates' economic success.

Proposed Priorities

Proposed Priority 1—Early Phase.

Projects that are designed to improve postsecondary success for underserved students, including retention, upward transfer, and completions of value that lead to economic success and/or further education, and are supported by evidence that meets the definition of Demonstrates a Rationale (as defined in 34 CFR 77.1) or Promising Evidence (as defined in 34 CFR 77.1).

Proposed Priority 2—Mid-Phase: Projects Supported by Moderate Evidence.

Projects that are designed to improve success for underserved students, including retention, upward transfer, and completions of value that lead to economic success and/or further education, and are supported by evidence that meets the definition of Moderate Evidence (as defined in 34 CFR 77.1). Projects under this priority must be implemented at multiple institutions of higher education or multiple campuses of the same institution and propose to serve at least 2,000 students.

Proposed Priority 3—Expansion: Projects Supported by Strong Evidence.

Projects that are designed to improve postsecondary success for underserved students, including retention, upward transfer, and completions of value that lead to economic success and/or further education, and are supported by evidence that meets the definition of Strong Evidence (as defined in 34 CFR 77.1). Projects under this priority must be implemented at multiple institutions of higher education and propose to serve at least 10,000 students.

Proposed Priority 4—Using Data for Continuous Improvement.

Projects that propose to build upon demonstrated progress toward improved student outcomes, or that propose a plan to improve student outcomes, for underserved students by using data to continually assess and improve the outcomes associated with funded activities and sustain data-driven continuous improvement processes at the institution after the grant period.

Applicants addressing this priority must—

(a) Identify, or describe how they will develop, the performance and outcome measures they will use to monitor and evaluate implementation of the intervention(s), including baseline data, intermediate and annual targets, and disaggregation by student subgroups;

(b) Describe how they will assess and address gaps in current data systems, tools, and capacity, and how they will monitor and respond to performance and outcome data to improve implementation of the intervention(s) on an ongoing basis and as part of formative and summative evaluation of the intervention(s); and

(c) Describe how institutional leadership will be involved with, and supportive of, project leadership and how the project relates to the institution's broader student success priorities and improvement processes.

Proposed Priority 5—Projects That Support College-to-Career Pathways and Supports.

Projects that propose to build upon demonstrated progress toward integrating, or that propose a plan to integrate, career-connected learning and advising support into their postsecondary success strategies to ensure students earn credentials of value that lead to economic success and/or further education that leads to career progression. Projects may include aligning academic coursework with career pathways and outcomes; developing and implementing program-level credential maps to create college-to-career pathways, including across institutions via transfer; integrating career planning, counseling, and coaching into holistic advising support; offering work-based learning opportunities aligned with students' programs of study; and providing navigation support to help graduates transition from college to career.

Types of Priorities

When inviting applications for a competition using one or more priorities, we designate the type of each priority as absolute, competitive preference, or invitational through a notice in the Federal Register. The effect of each type of priority follows:

Absolute priority: Under an absolute priority, we consider only applications that meet the priority (34 CFR

75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Proposed Requirements

The Department proposes the following program requirements for this program. We may apply one or more of these requirements in any year in which this program is in effect and may limit the application of these requirements to one or more of the proposed priorities. The Department will announce within the notice inviting applications the final requirements that will apply to a particular grant competition, and whether those requirements will apply to grantees applying under each proposed priority for this program.

Proposed Requirement-1—Uses of Funds.

Background: PSSG is funded under the Fund for the Improvement of Postsecondary Education (FIPSE) authority and was first authorized in FY 2023 as described in the explanatory statement accompanying Division H of the Consolidated Appropriation Act, 2023 (117 Pub. L. 328). In order to fully implement this program in the manner that Congress has directed, the Department proposes Uses of Funds to clarify to applicants and grantees flexibility, where applicable, and also specificity about the allowable activities under this program. The Department believes each of these activities would support the overall goal of the PSSG program.

Proposed Requirement 1 would also clarify flexibility around using PSSG funding to provide financial assistance to students. Many of the strategies that meet the Moderate and Strong Evidence standard, including the evidence-based interventions explicitly mentioned in the explanatory statement, include financial assistance as a key project component. The Department believes that this program cannot fulfill congressional intent without providing the flexibility to use funding for this activity. We do, however, note that under section 741(d) of the Higher Education Act of 1965, as amended (HEA) these funds cannot be used to provide direct financial assistance to students who do not meet the eligibility requirements of section 484(a).

Proposed Requirement

Program funds must be used for one or more of the following allowable uses of funds:

(a) Developing and using data systems, tools, and training to implement data-driven processes and interventions as part of a comprehensive continuous improvement effort; and

(b) Implementing student success strategies, including whole-college improvement models such as Guided Pathways; course redesign to implement co-requisite remediation or career-connected math pathways; intensive, integrated advising models including program maps with progress checks, case management approaches, and coaching; financial support, including need-based aid, emergency aid, and basic needs and behavioral health support and services; transfer support (as applicable), including four-year transfer maps, co-enrollment and co-advising across institutions, and regional transfer partnerships; career support, including integrated career planning, counseling, and coaching, work-based learning opportunities, and college-to-career navigation support; or other evidence-based student success strategies.

Proposed Requirement 2—Indirect Cost Rate Information.

Background: To maximize the grant resources that support direct costs, the Department is proposing to limit indirect costs to eight percent of a modified total direct cost base.

Proposed Requirement

A grantee's indirect cost reimbursement is limited to eight percent of a modified total direct cost base. For more information regarding indirect costs, or to obtain a negotiated indirect cost rate, please see www.ed.gov/about/offices/list/ocfo/intro.html.

Proposed Requirement 3—Matching Requirements and Exceptions.

Background: The Department proposes to require that grantees provide a ten percent match of non-Federal to Federal contributions. This proposed requirement is intended to leverage the Federal funds and to ensure alignment of such activities to the institution's strategic plan. The Department also proposes waiver authority so that institutions located in high-poverty areas, that enroll high numbers of low-income students, or that are otherwise under-resourced such that complying with this matching requirement would be overly burdensome, can still benefit from this program.

Proposed Requirement 3:

(a) Matching Requirement. Grantees must provide a ten percent match, which may include in-kind donations.

(b) Waiver Authority. The Secretary may waive the matching requirement on a case-by-case basis upon a showing of any of the following exceptional circumstances:

(1) The difficulty of raising matching funds for a program to serve as an area with high rates of poverty in the lead applicant's geographic location, defined as a Census tract, a set of contiguous Census tracts, an American Indian Reservation, Oklahoma Tribal Statistical Area (as defined by the U.S. Census Bureau), Alaska Native Village Statistical Area or Alaska Native Regional Corporation Area, Native Hawaiian Homeland Area, or other Tribal land or county that has a poverty rate of at least 25 percent as determined every 5 years using American Community Survey 5-Year data;

(2) Serving a significant population of students from low-income backgrounds at the lead applicant location, defined as at least 50 percent (or the eligibility threshold for the appropriate institutional sector available at https://www2.ed.gov/about/offices/list/ope/idues/eligibility.html#app) of degree-seeking enrolled students receiving need-based grant aid under title IV of the HEA; or

(3) Significant economic hardship as demonstrated by low average educational and general expenditures per full-time equivalent undergraduate student at the lead applicant institution, in comparison with the average educational and general expenditures per full-time equivalent undergraduate student of institutions that offer similar instruction without need of a waiver, as determined by the Secretary in accordance with the annual process of designation of title III and title V institutions.

Proposed Requirement 4: Limitation on Grant Awards.

Background: The Department proposes to allow the Secretary, in a given PSSG competition, to limit eligibility for new awards to applicants without current active grants under this program. The Department believes that this proposed requirement is necessary to support the program's evidence-building objective by ensuring the integrity of the project evaluations funded under this program. Supporting multiple PSSG projects for the same grantee could introduce bias that would negatively impact the quality of the evaluations. For example, if project participants receive support under multiple PSSG grants, the evaluation of the PSSG-supported strategies may overstate the results of a specific project. Similarly, if students in the comparison group for one PSSG project are receiving services under a separate PSSG project, then the evaluation of the initial project could understate the impact of the intervention.

Proposed Requirement

The Department will make awards to only applicants that are not the individual or lead applicant in a current active grant from the PSSG grant program.

Proposed Requirement 5: Supplement-not-Supplant.

Background: The Department recognizes that many institutions are engaged in efforts to increase postsecondary success for their students using both Federal and non-Federal funding. To ensure that the PSSG funding does not either duplicate or replace, but instead augments such efforts, we are proposing a supplement-not-supplant requirement.

Proposed Requirement

Grant funds must be used so that they supplement and, to the extent practical, increase the funds that would otherwise be available for the activities to be carried out under the grant and in no case supplant those funds.

Proposed Requirement 6: Independent Evaluation.

Background: The Department proposes to require grantees to conduct an independent evaluation of the project and submit the evaluation report to ERIC, the Department of Education's comprehensive bibliographic and full-text database of education research and information, sponsored by the Institute of Education Sciences (IES). ERIC is available at https://eric.ed.gov. This proposed requirement would enable the Department to meet the congressional intent outlined in the House Report 117-403 and the Explanatory Statement accompanying Division H of the Consolidated Appropriations Act, 2023 (Pub. L. 117-328) that all grantees carry out rigorous independent evaluations of their projects. By requiring timely sharing of the evaluations with IES so that the evaluations can be reviewed by the What Works Clearinghouse, the Department would meet its goals of both supporting the implementation of evidence-based interventions and building the evidence base about what works to improve retention, upward transfer, and completions of value that lead to economic success and/or further education.

Proposed Requirement

Grantees must conduct an independent evaluation of the effectiveness of the project and submit the evaluation report to ERIC, available at https://eric.ed.gov/, in a timely manner.

Proposed Requirement 7: Eligible Entities.

Background: The Department proposes limiting eligibility to institutions that are designated as eligible under the HEA titles III and V programs, nonprofits that are not IHEs or associated with an IHE in partnership with institutions that are designated as eligible under the HEA titles III and V programs, States in partnerships with institutions that are designated as eligible under the HEA titles III and V programs, and systems of public institutions of higher education. Institutions designated as eligible under titles III and V include Historically Black Colleges or Universities (HBCUs), Tribally Controlled Colleges or Universities (TCCUs), Minority-Serving Institutions (MSIs), and other institutions with high enrollment of needy students and below average full-time equivalent (FTE) expenditures, including community colleges. The Department believes that targeting funding to these IHEs is the best use of the available funding because these institutions disproportionately enroll students from groups who are underrepresented among college completers, such as low-income students. Supporting retention, upward transfer, and completion strategies at these institutions offers the greatest potential to close gaps in postsecondary outcomes and to increase economic mobility in this country. Additionally, these under-resourced institutions are most in need of Federal assistance to implement and evaluate evidence-based postsecondary college retention, upward transfer, and completion interventions.

Proposed Requirement

Eligible entities are title III or V institutions; nonprofits in partnership with title III or V institutions; States in partnership with title III or V institutions; or systems of public institutions of higher education.

Proposed Definitions

The Department proposes the following definitions for this program. We propose to define “English learner,” “Historically Black College or University,” “minority-serving institution,” “Tribal College or University,” and “underserved student” similarly to the definitions in the Secretary's Supplemental Priorities and Definitions for Discretionary Grant Programs published in the Federal Register on December 10, 2021 (86 FR 70612). The Department also proposes a novel definition of “students with disabilities” which we believe would be less burdensome for eligible applicants to administer while providing full coverage for the range of students with disabilities enrolled at an institution of higher education who may benefit from receiving support services under this program. We may apply these definitions in any year in which this program is in effect.

Completions of value means credentials that lead to further education through upward transfer or graduate education and/or that lead to economic mobility through earning enough to experience a premium over high school graduates and earning enough to recoup investment in postsecondary education.

Continuous improvement means using plans for collecting and analyzing data about a project component's implementation and outcomes (including the pace and extent to which project outcomes are being met) to inform necessary changes throughout the project. These plans may include strategies to gather ongoing feedback from participants and stakeholders on the implementation of the project component.

English learner means an individual who is an English learner as defined in section 8101(2) of the Elementary and Secondary Education Act of 1965, as amended, or an individual who is an English language learner as defined in section 203(7) of the Workforce Innovation and Opportunity Act.

Historically Black College or University means an institution that meets the eligibility requirements under section 322(2) of the HEA.

Independent evaluation means an evaluation of a project component that is designed and carried out independently of, but in coordination with, the entities that develop or implement the project component.

Minority-serving institution means an institution that is eligible to receive assistance under sections 317 through 320 of part A of title III, or under title V of the HEA.

Student with a disability means any student enrolled at an institution of higher education (including those accepted for dual enrollment) who meets the definition of an individual with a disability as defined in section 3 of the Americans with Disabilities Act of 1990 (42 U.S.C. 12102).

Tribal College or University has the meaning ascribed it in section 316(b)(3) of the HEA.

Underserved student means a student in one or more of the following subgroups:

(a) A student who is living in poverty or is served by schools with high concentrations of students living in poverty.

(b) A student of color.

(c) A student who is a member of a federally recognized Indian Tribe.

(d) An English learner.

(e) A student with a disability.

(f) A student experiencing homelessness or housing insecurity.

(g) A lesbian, gay, bisexual, transgender, queer or questioning, or intersex (LGBTQI+) student.

(h) A pregnant, parenting, or caregiving student.

(i) A student who is the first in their family to attend postsecondary education.

(j) A student enrolling in or seeking to enroll in postsecondary education for the first time at the age of 20 or older.

(k) A student who is working full-time while enrolled in postsecondary education.

(l) A student who is enrolled in, or is seeking to enroll in, postsecondary education who is eligible for a Pell Grant.

(m) An adult student in need of improving their basic skills or an adult student with limited English proficiency.

Final Priorities, Requirements, and Definitions

We will announce the final priorities, requirements, and definitions in a document in the Federal Register. We will determine the final priorities, requirements, and definitions after considering public comments on the proposed priorities, requirements, and definitions and other information available to the Department. This document does not preclude us from proposing additional priorities, requirements, definitions, or selection criteria, subject to meeting applicable rulemaking requirements.

Note: This document does not solicit applications. In any year in which we choose to use one or more of these priorities, requirements, and definitions, we invite applications through a notice in the Federal Register.

Executive Orders 12866, 13563, and 14094

Regulatory Impact Analysis

Under Executive Order 12866, the Office of Management and Budget (OMB) determines whether this regulatory action is “significant” and, therefore, subject to the requirements of the Executive order and subject to review by OMB. Section 3(f) of Executive Order 12866, as amended by Executive Order 14094, defines a “significant regulatory action” as an action likely to result in a rule that may—

(1) Have an annual effect on the economy of $200 million or more (adjusted every three years by the Administrator of Office of Information and Regulatory Affairs (OIRA) for changes in gross domestic product); or adversely affect in a material way the economy, a sector of the economy, productivity, competition, jobs, the environment, public health or safety, or State, local, territorial, or Tribal governments or communities;

(2) Create a serious inconsistency or otherwise interfere with an action taken or planned by another agency;

(3) Materially alter the budgetary impacts of entitlements, grants, user fees, or loan programs or the rights and obligations of recipients thereof; or

(4) Raise legal or policy issues for which centralized review would meaningfully further the President's priorities, or the principles set forth in this Executive order, as specifically authorized in a timely manner by the Administrator of OIRA in each case.

This proposed regulatory action is not a significant regulatory action subject to review by OMB under section 3(f) of Executive Order 12866, as amended by Executive Order 14094.

We have also reviewed this proposed regulatory action under Executive Order 13563, which supplements and explicitly reaffirms the principles, structures, and definitions governing regulatory review established in Executive Order 12866, as amended by Executive Order 14094. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these proposed priorities, requirements, and definitions only on a reasoned determination that their benefits would justify their costs. In choosing among alternative regulatory approaches, we selected those approaches that would maximize net benefits. Based on the analysis that follows, the Department believes that this regulatory action is consistent with the principles in Executive Order 13563.

The potential costs associated with these priorities, requirements, and definitions would be minimal, while the potential benefits are significant. The Department believes that this proposed regulatory action would not impose significant costs on eligible entities. Participation in this program is voluntary, and the costs imposed on applicants by this regulatory action would be limited to paperwork burden related to preparing an application. The potential benefits of implementing the program would outweigh the costs incurred by applicants, and the costs of carrying out activities associated with the application would be paid for with program funds. For these reasons, we have determined that the costs of implementation would not be burdensome for eligible applicants, including small entities.

We also have determined that this regulatory action would not unduly interfere with State, local, and Tribal governments in the exercise of their governmental functions.

In accordance with these Executive orders, the Department has assessed the potential costs and benefits, both quantitative and qualitative, of this regulatory action. The potential costs are those resulting from statutory requirements and those we have determined as necessary for administering the Department's programs and activities.

Clarity of the Regulations

Executive Order 12866 and the Presidential memorandum “Plain Language in Government Writing” require each agency to write regulations that are easy to understand. The Secretary invites comments on how to make these proposed priorities, requirements, and definitions easier to understand, including answers to questions such as the following:

• Are the requirements in the proposed priorities, requirements, and definitions clearly stated?

• Do the proposed priorities, requirements, and definitions contain technical terms or other wording that interferes with their clarity?

• Does the format of the proposed priorities, requirements, and definitions (grouping and order of sections, use of headings, paragraphing, etc.) aid or reduce their clarity?

• Would the proposed priorities, requirements, and definitions be easier to understand if we divided them into more (but shorter) sections?

• Could the description of the proposed priorities, requirements, and definitions in the SUPPLEMENTARY INFORMATION section of this preamble be more helpful in making the proposed priorities, requirements, and definitions easier to understand? If so, how?

• What else could we do to make the proposed priorities, requirements, and definitions easier to understand?

To send any comments that concern how the Department could make these proposed priorities, requirements, and definitions easier to understand, see the instructions in the ADDRESSES section.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Regulatory Flexibility Act Certification

The Secretary certifies that these proposed priorities, requirements, and definitions would not have a significant economic impact on a substantial number of small entities.

The small entities that this proposed regulatory action would affect are institutions that meet the applicable eligibility requirements. The Secretary believes that the costs imposed on applicants by the proposed priorities, requirements, and definitions would be limited to paperwork burden related to preparing an application and that the benefits would outweigh any costs incurred by applicants.

Participation in this program is voluntary. For this reason, the proposed priorities, requirements, and definitions would impose no burden on small entities unless they applied for funding under the program. We expect that in determining whether to apply for PSSG program funds, an eligible applicant would evaluate the requirements of preparing an application and any associated costs and weigh them against the benefits likely to be achieved by receiving PSSG funds. Eligible applicants most likely would apply only if they determine that the likely benefits exceed the costs of preparing an application. The likely benefits include the potential receipt of a grant as well as other benefits that may accrue to an entity through its development of an application.

This proposed regulatory action would not have a significant economic impact on any small entity once it receives a grant because it would be able to meet the costs of compliance using the funds provided under this program. We invite comments from eligible small entities as to whether they believe this proposed regulatory action would have a significant economic impact on them and, if so, request evidence to support that belief.

Paperwork Reduction Act of 1995

These proposed priorities, requirements, and definitions do not contain any information collection requirements.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Nasser Paydar,
Assistant Secretary for Postsecondary Education.

[FR Doc. 2024-12502 Filed 6-6-24; 8:45 am]

BILLING CODE 4000-01-P